DEPARTMENT OF JUSTICE

Notice of Lodging of Consent Decree Under the Clean Air Act

Notice is hereby given that on March 28, 2012, a proposed Consent Decree in United States v. Forward, Inc., Civil Action No. 2:11-cv-00590-EFB, was lodged with the United States District Court for the Eastern District of California.

In this action the United States sought injunctive relief and civil penalties against defendant Forward, Inc., pursuant to Section 113(b) of the Clean Air Act (Act), 42 U.S.C. 7413(b), in connection with activities at the Forward Landfill in Manteca, California. The United States' complaint, filed concurrently with the Consent Decree, alleges that Forward violated the Act by operating gas extraction wells in the landfill's gas collection and control system (GCCS) in violation of the Act's New Source Performance Standards and National Emission Standards for Hazardous Air Pollutants, and in violation of the Title V permit it had received from the San Joaquin Valley Unified Air Pollution Control District (District), the United States' co-plaintiff in the action. The Consent Decree would require Forward to improve the GCCS by installing new extraction wells and closing unneeded wells, to implement specific operations and maintenance actions to minimize air intrusion and the likelihood of subsurface fires at the landfill, to replace trucks in the landfill's fleet with less polluting vehicles, and to pay a civil penalty of $200,000, to be shared with the District.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Forward, Inc., No. 2:11-cv-00590-EFB (E.D. Cal.), D.J. Ref. 90-5-2-1-09873.

During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or emailing a request to “Consent Decree Copy”(EESCDCopy.ENRD@usdoj.gov), fax no. (202) 514-0097, phone confirmation number (202) 514-5271. If requesting a copy from the Consent Decree Library by mail, please enclose a check in the amount of $9.25 payable to the U.S. Treasury or, if requesting by email or fax, forward a check in that amount to the Consent Decree Library at the address given above.

Henry S. Friedman,
Assistant Chief, Environmental Enforcement Section, Environment and Natural Resources Division.

[FR Doc. 2012-8033 Filed 4-3-12; 8:45 am]

BILLING CODE 4410-15-P